DEPARTMENT OF AGRICULTURE

Forest Service

Idaho (Boise, Caribou-Targhee, Salmon-Challis, and Sawtooth National Forests and Curlew National Grassland); Nevada (Humboldt-Toiyabe National Forest); Utah (Ashley, Dixie, Fishlake, Manti-La Sal, and Uinta-Wasatch-Cache National Forests); Wyoming (Bridger-Teton National Forest); and Wyoming/Colorado (Medicine Bow-Routt National Forest and Thunder Basin National Grassland) Amendments to Land Management Plans for Greater Sage-grouse Conservation; Correction

AGENCY: Forest Service, USDA.

ACTION: Supplemental notice of intent to prepare an environmental impact statement; notice of updated information concerning the forest service greater sage-grouse land and resource management plan amendments; correction.

SUMMARY: The Forest Service published a document in the Federal Register of June 20, 2018, soliciting public comments on a greater sage-grouse land management proposed action that could warrant land management plan amendments. The document contained errors in the following sections: SUMMARY and SUPPLEMENTARY INFORMATION (including Purpose and Need, Proposed Action, Scoping Process and Responsible Officials). The intent of the corrections in this notice is to clarify that the Forest Service does not propose to amend plans for National Forest System lands in Montana. In addition, the comment period has been extended to close 30 days from publication of this correction notice.

DATES: The comment period for the document published on June 20, 2018 (83 FR 28608 is extended. Comments concerning the scope of the analysis must be received by August 1, 2018.

ADDRESSES: Please submit comments via one of the following methods:

1. Public participation portal (preferred): https://cara.ecosystem-management.org/Public/CommentInput?project=52904.

2. Mail: Sage-grouse Amendment Comment, USDA Forest Service Intermountain Region, Federal Building, 324 25th Street, Ogden, UT 84401.

3. Email: comments-intermtnregional-office@fs.fed.us.

4. Facsimile: 801-625-5277.

All comments, including names and addresses when provided, are placed in the record and are available for public inspection and copying. The public may inspect comments received online via the public reading room at: https://cara.ecosystem-management.org/Public/ReadingRoom?project=52904.

FOR FURTHER INFORMATION CONTACT: John Shivik at 801-625-5667 or email johnashivik@fs.fed.us. Individuals who use telecommunication devices for the deaf (TDD) may call the Federal Information Relay Service (FIRS) at 1-800-877-8339 between 8:00 a.m. and 8:00 p.m., Eastern Time, Monday through Friday.

SUPPLEMENTARY INFORMATION:

Corrections

In the Federal Register of June 20 2018, in FR Doc. 2018-13260 (83 FR 28608), make the following corrections:

1. On page 28608, in the third column, correct the SUMMARY to read as follows:

SUMMARY: This supplemental notice solicits public comments on a greater sage-grouse land management proposed action that could warrant land management plan amendments. Land management plans for National Forests and Grasslands in Idaho, Montana, Nevada, Utah, Colorado and Wyoming were amended in September 2015 to incorporate conservation measures to support the continued existence of the greater sage-grouse. Since the plans were amended in 2015, scoping on specific issues was requested in a Notice of Intent (NOI) published in the Federal Register on November 21, 2017. This supplemental NOI continues the scoping effort by seeking comments about a proposed action to make further amendments to the plans, excluding plans for National Forest System lands in Montana. This supplemental NOI also identifies the planning rule provisions likely to be directly related, and so applicable, to proposed plan amendments.

2. On page 28609, in the first column, correct the first paragraph of the SUPPLEMENTARY INFORMATION to read as follows:

SUPPLEMENTARY INFORMATION: The Forest Service is proposing to amend several Forest Service land management plans that were amended in 2015 regarding greater sage-grouse conservation in the states of Colorado, Idaho, Nevada, Wyoming and Utah. This notice clarifies the purpose and need, proposed action, and the responsible officials, which were not identified in the scoping on specific issues that were requested in a Notice of Intent published in the Federal Register on November 21, 2017 (2017 NOI) (82 FR 55346). The Forest Service is proposing amendments to land management plans that were amended in 2015.

3. On page 28609, in the second column, correct the “Purpose and Need” paragraph to read as follows:

Purpose and Need

The Forest Service published the 2017 NOI to consider the possibility of amending land management plans for greater sage-grouse that were originally amended in 2015 in the states of Colorado, Idaho, Nevada, Wyoming, Utah and Montana (2015 Sage-Grouse Plan Amendments). The purpose of this supplemental notice is to propose amendments to the 2015 Sage Grouse Plan Amendments, excluding plans for National Forest System lands in Montana. The need for further plan amendments is that the Forest Service has gained new information and understanding from the 55,000 comments received as a result of the 2017 NOI, within-agency scoping, and from coordination with the Sage Grouse Task Force (with members from state agencies, Bureau of Land Management, Fish and Wildlife Service and the Natural Resources Conservation Service). The purpose of the proposed action is to incorporate new information to improve the clarity, efficiency, and implementation of affected plans, including better alignment with the Bureau of Land Management (BLM) and state plans, in order to benefit greater sage-grouse conservation on the landscape scale.

4. On page 28609, in the third column, correct the first paragraph of “Proposed Action” to read as follows:

Proposed Action

The scope and scale of the proposed action is on approximately 6 million acres of greater sage-grouse habitat on National Forest System lands in the Intermountain and Rocky Mountain Regions. Specific textual adjustments currently under consideration can be found on the Intermountain Region home page: https://www.fs.usda.gov/detail/r4/home/?cid=stelprd3843381.

5. On page 28610, in the first column, correct the “Scoping Process” paragraph to read as follows:

Scoping Process

The Forest Service is proposing amendments to affected land management plans in Colorado, Idaho, Nevada, Wyoming and Utah to change some of the plan components added in 2015. Public involvement is important for adding meaningful participation from the early phases of planning through finalization of the plan amendments and subsequent monitoring. A public participation strategy has been designed to assist with communication within the Forest Service and between the Forest Service and the public. Find the strategy here: https://www.fs.usda.gov/detail/r4/home/?cid=stelprd3843381.

6. On page 28610, in the first column, correct the “Responsible Officials” paragraph to read as follows:

Responsible Officials

The responsible officials who would approve plan amendments are the Regional Foresters for the Intermountain and Rocky Mountain Regions.

Dated: June 25, 2018.
Chris French,
Associate Deputy Chief, National Forest System.

[FR Doc. 2018-14282 Filed 6-29-18; 8:45 am]

BILLING CODE 3411-15-P